DEPARTMENT OF ENERGY

Federal Energy Regulatory Commission

[Docket No. CP06-436-000]

International Paper Company; Notice of Application

September 8, 2006.

Take notice that on August 29, 2006, International Paper Company (IPCo), 6400 Poplar Avenue Memphis, TN 38197, filed in Docket No. CP06-436-000 an application pursuant to section 7(b) of the Natural Gas Act (NGA), as amended, for authorization to abandon, in place, its 10.5 mile 6-inch natural gas pipeline in Webster and Bossier Parishes, Louisiana and Lafayette County, Arkansas, which is no longer in use. IPCo also proposes to remove and abandon all above ground pipeline appurtenances (i.e., valves and vents) at three sites along the pipeline, all as more fully set forth in the application which is on file with the Commission and open to public inspection. This filing is available for review at the Commission in the Public Reference Room or may be viewed on the web at http://www.ferc.gov using the “eLibrary” link. Enter the docket number excluding the last three digits in the docket number field to access the document. For assistance, contact FERC at FERCOnlineSupport@gerc.gov or call toll-free, (886) 208-3676 or TYY, (202) 502-8659.

Any questions regarding this application should be directed to Nicholas W. Fels, Covington & Burling LLP, 1201 Pennsylvania Avenue, NW., Washington, DC 20004, phone 202-662-5648, fax 202-662-6290.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (http://www.ferc.gov) under the “e-Filing” link.

Comment Date: September 22, 2006.

Magalie R. Salas,
Secretary.

[FR Doc. E6-15377 Filed 9-15-06; 8:45 am]

BILLING CODE 6717-01-P